DEPARTMENT OF THE INTERIOR

National Park Service

Notice of Intent to Repatriate a Cultural Item in the Possession of the Peabody Museum of Archaeology and Ethnology, Harvard University, Cambridge, MA

AGENCY: National Park Service, Interior.

ACTION: Notice.

Notice is hereby given in accordance with the provisions of the Native American Graves Protection and Repatriation Act (NAGPRA), 43 CFR 10.10(a)(3), of the intent to repatriate a cultural item in the possession of the Peabody Museum of Archaeology and Ethnology, Harvard University, Cambridge, MA, that meets the definition of “unassociated funerary object” under Section 2 of the Act.

This notice is published as part of the National Park Service's administrative responsibilities under NAGPRA, 43 CFR 10.2 (c). The determinations within this notice are the sole responsibility of the museum, institution, or Federal agency that has control of this cultural item. The National Park Service is not responsible for the determinations within this notice.

A detailed assessment of the cultural item was made by the Peabody Museum of Archaeology and Ethnology professional staff in consultation with representatives of the Cayuga Nation of New York; Delaware Tribe of Indians, Oklahoma; Delaware Nation, Oklahoma; Oneida Nation of New York; Oneida Tribe of Wisconsin; Onondaga Nation of New York; St. Regis Band of Mohawk Indians of New York; Seneca Nation of New York; Seneca-Cayuga Tribe of Oklahoma; Stockbridge-Munsee Community of Mohican Indians of Wisconsin; Tonawanda Band of Seneca Indians of New York; Tuscarora Nation of New York; and the nonfederally recognized Mohawk Nation Council of Chiefs.

The one cultural item is a brass finger ring.

Around 1880, the brass finger ring was donated to the Peabody Museum of Archaeology and Ethnology by Alexander Howell. The object was excavated near Canandaigua, Ontario County, NY.

According to museum documentation, the ring was recovered from a grave near Canandaigua. No additional provenience information is available, but it is believed that the grave was that of a Native American individual. Because this ring is brass, and brass was only introduced with European trade, the ring can be dated to the Contact or Historic period (post-A.D. 1500). Historic sources and consultation information indicate that Canandaigua was part of the Seneca territory during the Contact and Historic periods. The Peabody Museum of Archaeology and Ethnology does not have possession of the human remains from this burial.

Based upon the above-mentioned information, officials of the Peabody Museum of Archaeology and Ethnology have determined that, pursuant to 43 CFR 10.2(d)(2)(ii), this cultural item is reasonably believed to have been placed with or near individual human remains at the time of death or later as part of the death rite or ceremony and is believed, by a preponderance of the evidence, to have been removed from a specific burial site of a Native American individual. Officials of the Peabody Museum of Archaeology and Ethnology also have determined that, pursuant to 43 CFR 10.2(e), there is a relationship of shared group identity that can be reasonably traced between this unassociated funerary object and the Seneca Nation of New York, Seneca-Cayuga Tribe of Oklahoma, and the Tonawanda Band of Seneca Indians of New York.

This notice has been sent to officials of the Cayuga Nation of New York; Delaware Tribe of Indians, Oklahoma; Delaware Nation, Oklahoma; Oneida Nation of New York; Oneida Tribe of Wisconsin; Onondaga Nation of New York; St. Regis Band of Mohawk Indians of New York; Seneca Nation of New York; Seneca-Cayuga Tribe of Oklahoma; Stockbridge-Munsee Community of Mohican Indians of Wisconsin; Tonawanda Band of Seneca Indians of New York; Tuscarora Nation of New York; and the nonfederally recognized Mohawk Nation Council of Chiefs. Representatives of any other Indian tribe that believes itself to be culturally affiliated with this unassociated funerary object should contact Patricia Capone, Repatriation Coordinator, Peabody Museum of Archaeology and Ethnology, Harvard University, 11 Divinity Avenue, Cambridge, MA 02138, telephone (617) 496-3702, before November 5, 2001. Repatriation of this unassociated funerary object to the Seneca Nation of New York, Seneca-Cayuga Tribe of Oklahoma, and the Tonawanda Band of Seneca Indians of New York may begin after that date if no additional claimants come forward.

Dated: July 3, 2001.
John Robbins,
Assistant Director, Cultural Resources Stewardship and Partnerships.

[FR Doc. 01-24967 Filed 10-4-01 ; 8:45 am]

BILLING CODE 4310-70-F